DEPARTMENT OF ENERGY

Federal Energy Regulatory Commission

Notice of Application Accepted for Filing, Soliciting Motions To Intervene and Protests; Ready for Environmental Analysis, and Soliciting Comments, Terms and Conditions, Recommendations, and Prescriptions; Paper Scoping and Soliciting Scoping Comments

January 27, 2006.

Take notice that the following hydroelectric application has been filed with the Commission and is available for public inspection.

a. Type of Application: Minor License.

b. Project No.: 12599-002.¹

¹ The Mill Coulee Drops Project No. 12599 would be located at the sites of the Mill Coulee Lower Project No. 12536 and the Mill Coulee Upper Project No. 12537, for which the applicant holds preliminary permits.

c. Date Filed: November 28, 2005.

d. Applicant: Wade Jacobsen.

e. Name of Project: Mill Coulee Drops Hydroelectric Project.

f. Location: On the Mill Coulee Canal, in Cascade County, Montana, about 4 miles west of Fairfield, Montana. The project would occupy in part lands of the United States administered by the Bureau of Reclamation.

g. Filed Pursuant to: Federal Power Act 16 U.S.C. 791(a)-825(r).

h. Applicant Contact: Ted Sorenson, Sorenson Engineering, 5203 South 11th East, Idaho Falls, ID 83404, (208) 522-8069.

i. FERC Contact: Dianne Rodman, Federal Energy Regulatory Commission, 888 First Street, NE., Washington, DC 20426; telephone (202) 502-6077 or by e-mail at Dianne.rodman@ferc.gov.

j. Deadline for Filing Scoping Comments: 30 days from the issuance date of this notice; deadline for filing motions to intervene and protests, comments, terms and conditions, recommendations, and prescriptions: 60 days from the issuance of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments, motions to intervene, protests, comments, terms and conditions, recommendations, and prescriptions may be filed electronically via the Internet in lieu of paper. The Commission strongly encourages electronic filings. See 18 CFR 385.2001(a)(1)(iii) and the instructions on the Commission's Web site (http://www.ferc.gov) under the “e-Filing” link.

k. This application has been accepted for filing, and is now ready for environmental analysis.

l. The proposed project would be built at the Mill Coulee Canal's Upper and Lower Mill Coulee drop structures, which are reinforced concrete structures 290 and 190 feet long, respectively. The total drop for the two structures is 101.6 feet. The applicant proposes to construct: (1) A check structure, consisting of a spillway gate panel anchored to a ballast concrete structure spanning the full width of the canal floor between new concrete abutment walls, upstream from the concrete transition of the Upper Mill Coulee chute drop; (2) an intake structure to divert flows from the left side of the canal; (3) a 48-inch-diameter, 1,400-feet-long pre-stressed concrete, tape-coated steel, or polyethylene penstock that would be completely buried; (4) a powerhouse containing one horizontal Francis turbine and one generator with a rated output of 1.05 MW; (5) a draft tube and 2,650-feet-long tailrace discharging flows into the canal below the Lower Mill Coulee drop structure; (6) a switchyard immediately adjacent to the powerhouse; and (7) a 0.7-mile-long, 69-kV transmission line extending from the switchyard to interconnect with an existing Sun River Electric Cooperative transmission line. The project would use flows as they are provided in accordance with the needs of the Greenfield Irrigation District, which operates the canal. The project would not impound water and would be operated strictly as a run-of-river plant. Average annual generation would be 2,500,000 kilowatt-hours.

m. A copy of the application is available for review at the Commission in the Public Reference Room or may be viewed on the Commission's Web site at http://www.ferc.gov using the “eLibrary” link. Enter the docket number, excluding the last three digits, in the docket number field to access the document. For assistance, contact FERC Online Support at FERCOnlineSupport@ferc.gov or toll-free at 1-866-208-3676, or for TTY, (202) 502-8659. A copy is also available for inspection and reproduction at the address in item h above.

Register online at http://www.ferc.gov/docs-filings/esubscription.asp to be notified via e-mail of new filings and issuances related to this or other pending projects. For assistance, contact FERC Online Support.

n. Any qualified applicant desiring to file a competing application must submit to the Commission on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

The Commission directs, pursuant to section 4.34(b) of the Regulations (see Order No. 533 issued May 8, 1991, 56 FR 23108, May 20, 1991) that all comments, recommendations, terms and conditions, and prescriptions concerning the application be filed with the Commission within 60 days from the issuance date of this notice. All reply comments must be filed with the Commission within 105 days from the date of this notice.

All filings must (1) bear in all capital letters the title “PROTEST,” “MOTION TO INTERVENE,” “NOTICE OF INTENT TO FILE COMPETING APPLICATION,” or “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Scoping Process: The Commission intends to prepare an Environmental Assessment (EA) on the project in accordance with the National Environmental Policy Act.² The EA will consider both site-specific and cumulative environmental impacts and reasonable alternatives to the proposed action.

² One EA will be prepared for the Mill Coulee Drops Project and two other projects proposed to be constructed on nearby canals, the Lower Turnbull Drop Project No. 12597 and the Upper Turnbull Drop Project No. 12598.

Commission staff does not propose to conduct any on-site scoping meetings at this time. Instead, we will solicit comments, recommendations, information, and alternatives in the Scoping Document (SD).³

³ One SD has been prepared for the Mill Coulee Drops Project, the Lower Turnbull Drop Project, and the Upper Turnbull Drop Project.

Copies of the SD outlining the subject areas to be addressed in the EA were distributed to the parties on the Commission's mailing list. Copies of the SD may be viewed on the Web at http://www.ferc.gov using the “eLibrary” link (see item m above).

Magalie R. Salas,
Secretary.

[FR Doc. E6-1445 Filed 2-2-06; 8:45 am]

BILLING CODE 6717-01-P